DEPARTMENT OF LABOR

Employment and Training Administration

[NAFTA-04917]

Pratt & Whitney Hac, Grand Prairie, TX, Including Temporary Workers of Manpower, ABC Staffing and Resource Management International, Inc. Employed at Pratt & Whitney HAC, Grand Prairie, TX; Amended Certification Regarding Eligibility To Apply for NAFTA-Transitional Adjustment Assistance

In accordance with Section 250(A), Subchapter D, Chapter 2, Title II, of the Trade Act of 1974 (19 USC 2273), the Department of Labor issued a Certification for NAFTA Transitional Adjustment Assistance on September 10, 2001, applicable to workers of Pratt & Whitney HAC, Grand Prairie, Texas. The notice will be published soon in the Federal Register.

At the request of the State agency, the Department reviewed the certification for workers of the subject firm. Information provided by the State shows that some employees of the subject firm were temporary workers from Manpower, Grand Prairie, Texas, ABC Staffing, North Richland Hills, Texas and Resource Management International, Inc., Dallas, Texas to produce composites at the Grand Prairie, Texas location of the subject firm.

Based on these findings, the Department is amending the certification to include temporary workers of Manpower, Grand Prairie, Texas, ABC Staffing, North Richland Hills, Texas and Resource Management International, Inc., Dallas, Texas who were engaged in the production of composites at Pratt & Whitney HAC, Grand Prairie, Texas.

The intent of the Department's certification is to include all workers of Pratt & Whitney HAC, Grand Prairie, Texas adversely affected by a shift in production of composites to Mexico.

The amended notice applicable to NAFTA—04698 is hereby issued as follows:

All workers of Pratt & Whitney HAC, Grand Prairie, Texas, including temporary workers of Manpower, ABC Staffing, and Resource Management International, Inc, engaged in the production of composites at Pratt & Whitney HAC, Grand Prairie, Texas, who became totally or partially separated from employment on or after May 29, 2000, through September 10, 2003, are eligible to apply for NAFTA-TAA under Section 250 of the Trade Act of 1974.

Signed at Washington, DC, this 28th day of September 2001.
Linda G. Poole,
Certifying Officer, Division of Trade Adjustment Assistance.

[FR Doc. 01-26351 Filed 10-18-01; 8:45 am]

BILLING CODE 4510-30-M